DEPARTMENT OF HOMELAND SECURITY

Coast Guard

33 CFR Part 117

[Docket No. USCG-2009-0686]

Drawbridge Operation Regulations; Lower Grand River, Iberville Parish, LA

AGENCY: Coast Guard, DHS.

ACTION: Notice of temporary deviation from regulations; request for comments.

SUMMARY: The Commander, Eighth Coast Guard District, has issued a temporary deviation from the regulations governing the operation of the LA 75 pontoon bridge and the LA 77 swing bridge across the Lower Grand River, mile 38.4 and 47.0 respectively, in Iberville Parish, Louisiana. This deviation will test a change to both drawbridge's operating schedules to determine whether permanent changes to the schedules are needed. The deviation will allow an additional 30 minutes to the end of each scheduled closure period to provide more time for school buses to transit across the bridges.

DATES: This deviation is effective from November 25, 2009 through December 28, 2009.

Comments, requests for public meetings, and related material must be received by the Coast Guard on or before January 11, 2010.

ADDRESSES: You may submit comments identified by docket number USCG-2009-0686 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these methods. See the “Public Participation and Request for Comments” portion of the SUPPLEMENTARY INFORMATION section below for instructions on submitting comments.

FOR FURTHER INFORMATION CONTACT: If you have questions on this proposed rule, call or e-mail Lindsey Middleton, Bridge Administration Branch; telephone 504-671-2128, e-mail Lindsey.R.Middleton@uscg.mil. If you have questions on viewing or submitting material to the docket, call Renee V. Wright, Program Manager, Docket Operations, telephone 202-366-9826.

SUPPLEMENTARY INFORMATION:

Public Participation and Request for Comments

We encourage you to participate in this rulemaking by submitting comments and related materials. All comments received will be posted, without change, to http://www.regulations.gov and will include any personal information you have provided.

Submitting Comments

If you submit a comment, please include the docket number for this rulemaking (USCG-2009-0686), indicate the specific section of this document to which each comment applies, and provide a reason for each suggestion or recommendation. You may submit your comments and material online (http://www.regulations.gov), or by fax, mail or hand delivery, but please use only one of these means. If you submit a comment online via http://www.regulations.gov, it will be considered received by the Coast Guard when you successfully transmit the comment. If you fax, hand delivery, or mail your comment, it will be considered as having been received by the Coast Guard when it is received at the Docket Management Facility. We recommend that you include your name and a mailing address, an e-mail address, or a phone number in the body of your document so that we can contact you if we have questions regarding your submission.

To submit your comment online, go to http://www.regulations.gov, click on the “submit a comment” box, which will then become highlighted in blue. In the “Keyword” box insert “USCG-2009-0686,” click “Search,” and then click on the balloon shape in the “Actions” column. If you submit your comments by mail or hand delivery, submit them in an unbound format, no larger than 8½ by 11 inches, suitable for copying and electronic filing. If you submit them by mail and would like to know that they reached the Facility, please enclose a stamped, self-addressed postcard or envelope. We will consider all comments and material received during the comment period and may change the rule based on your comments.

Viewing Comments and Documents

To view comments, as well as documents mentioned in this preamble as being available in the docket, go to http://www.regulations.gov, click on the “read comments” box, which will then become highlighted in blue. In the “Keyword” box insert “USCG-2009-0686” and click “Search.” Click the “Open Docket Folder” in the “Actions” column. You may also visit the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Meeting

We do not now plan to hold a public meeting. But you may submit a request for one on using one of the four methods specified under ADDRESSES. Please explain why one would be beneficial. If we determine that one would aid this rulemaking, we will hold one at a time and place announced by a later notice in the Federal Register.

Background and Purpose

The Iberville Parish School Board has requested a change in the operation regulations for the LA 75 pontoon bridge and the LA 77 swing bridge across the Lower Grand River, mile 38.4 and 47.0, respectively, in Iberville Parish, Louisiana. The change would add an additional 30 minutes to the end of each scheduled closure period to provide more time for school buses to transit across the bridge. Extra time is now needed because one of Iberville Parish's high schools has been closed. As a result, students have been redistricted creating the need for buses to have more time to transit the students over the bridges to get to and from school.

Presently, 33 CFR 117.478 (a) states: The draw of the LA 75 bridge, mile 38.4 (Alternate Route) at Bayou Sorrel, shall open on signal; except that, from about August 15 to about June 5 (the school year), the draw need not be opened from 6 a.m. to 7:30 a.m. and from 3 p.m. to 4:30 p.m., Monday through Friday except holidays. The draw shall open on signal at any time for an emergency aboard a vessel.

Presently, 33 CFR 117.478 (b) states: The draw of the LA 77 bridge, mile 47.0 (Alternate Route) at Grosse Tete, shall open on signal; except that from about August 15 to about June 5 (the school year), the draw need not be opened from 6 a.m. to 8 a.m. and from 2:30 p.m. to 4:30 p.m., Monday through Friday except Federal holidays. The draw shall open on signal at any time for an emergency aboard a vessel.

The Iberville Parish School Board has requested that the operating regulation of both the LA 75 and LA 77 bridges be changed to open on signal; except that, from about August 15 to about June 5 (the school year), the LA 75 bridge need not be opened from 6 a.m. to 8 a.m. and from 3 p.m. to 5 p.m., Monday through Friday except holidays and the LA 77 bridge need not be opened from 6 a.m. to 8:30 a.m. and from 2:30 p.m. to 5 p.m., Monday through Friday except Federal holidays. Both draws shall open on signal at any time for an emergency aboard a vessel.

We are testing these potential operating regulation adjustments to discover any outcomes in vehicular traffic and water navigation as a result of the time adjustments. During the temporary deviation period a traffic count has been requested from Louisiana Department of Transportation and Development.

This deviation is effective from November 25, 2009 until December 28, 2009.

The LA 75 bridge is a pontoon bridge, there is no access for vessels to pass through the bridge while it is in the closed-to-navigation position. Vessels have access to two different alternate routes. One route is the Atchafalaya River and, the other accessible route is the Gulf Intracoastal Waterway.

The LA 77 bridge is a swing span bridge and has a vertical clearance of 2.5 feet above mean high water, elevation 9.0 feet mean sea level and 11.5 feet above mean low water, elevation 0.0 mean sea level in the closed-to-navigation position. Vessels have access to the Gulf Intracoastal Waterway as an alternate route.

In accordance with 33 CFR 117.35(e), the drawbridge must return to its regular operating schedule immediately at the end of the designated time period. This deviation from the operating regulations is authorized under 33 CFR 117.35.

Dated: October 14, 2009.
David M. Frank,
Bridge Administrator.

[FR Doc. E9-26988 Filed 11-9-09; 8:45 am]

BILLING CODE 4910-15-P